FEDERAL COMMUNICATIONS COMMISSION

47 CFR Part 73

[DA 06-1227; MB Docket No. 06-88; RM-11254]

Radio Broadcasting Services; Boonville and Wheatland, MO

AGENCY: Federal Communications Commission.

ACTION: Proposed rule.

SUMMARY: The Audio Division requests comment on a petition filed by Bittersweet Broadcasting, Inc. to upgrade its Station KWJK-FM, Boonville, Missouri, from Channel 226A to Channel 226C3. See SUPPLEMENTARY INFORMATION.

DATES: Comments must be filed on or before July 31, 2006, and reply comments on or before August 15, 2006.

ADDRESSES: Federal Communications Commission, 445 Twelfth Street, SW., Washington, DC 20554. In addition to filing comments with the FCC, interested parties should serve the petitioner, as follows: Bittersweet Broadcasting, Inc., 1600 Radio Hill Road, Boonville, Missouri 65233 (Petitioner); and Frederick A. Polner, Esq., Rothman, Gordon Foreman & Groudine, P.C., Third Floor, Grant Building, Pittsburgh, PA 15219-2203 (Counsel to Petitioner).

FOR FURTHER INFORMATION CONTACT: Andrew J. Rhodes, Media Bureau, (202) 418-2180.

SUPPLEMENTARY INFORMATION: This is a summary of the Commission's Notice of Proposed Rule Making, MB Docket No. 06-88, adopted June 7, 2006, and released June 9, 2006. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Pursuant to Section 1.420(g)(3) of the Commission's Rules, we shall not accept competing expressions of interest pertaining to the use of Channel 226C3 at Boonville, Missouri. Channel 226C3 can be allotted at Boonville at proposed reference coordinates of 38-51-17 NL and 92-38-17 WL.

To accommodate the upgrade at Boonville, the document also proposes the substitution of Channel 272A for vacant but applied for Channel 226A at Wheatland, Missouri. Comment is requested from both the rulemaking petitioner and World Radio Link, Inc. (“WRL”), the applicant for Channel 226A, Wheatland, on the tentative conclusion that WRL's application is not entitled to cut-off protection vis-à-vis the Boonville rulemaking petition and that WRL can be required to amend its application to specify Channel 272A, Wheatland, at a rule-compliant site because the application was filed after the rulemaking petition. The proposed reference coordinates for Channel 272A at Wheatland, MO, are 37-58-44 NL and 93-26-49 WL.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Missouri, is amended by removing Channel 226A and adding Channel 226C3 at Boonville and by removing Channel 226A and adding Channel 272A at Wheatland.

Federal Communications Commission.
John A. Karousos,
Assistant Chief, Audio Division, Media Bureau.

[FR Doc. E6-10007 Filed 6-27-06; 8:45 am]

BILLING CODE 6712-01-P